DEPARTMENT OF COMMERCE

International Trade Administration

[A-533-885, A-570-097]

Polyester Textured Yarn From India and the People's Republic of China: Postponement of Preliminary Determinations in the Less-Than-Fair-Value Investigations

AGENCY: Enforcement and Compliance, International Trade Administration, Department of Commerce.

DATES: Applicable April 23, 2019.

FOR FURTHER INFORMATION CONTACT: Irene Gorelik at (202) 482-6905 (People's Republic of China (China)); Katherine Johnson at (202) 482-4929 (India), AD/CVD Operations, VIII, Enforcement and Compliance, International Trade Administration, U.S. Department of Commerce, 1401 Constitution Avenue NW, Washington, DC 20230.

SUPPLEMENTARY INFORMATION:

Background

On November 7, 2018, the Department of Commerce (Commerce) initiated less-than-fair-value (LTFV) investigations of imports of polyester textured yarn (yarn) from India and China.¹ Commerce exercised its discretion to toll all deadlines affected by the partial federal government closure from December 22, 2018, through the resumption of operations on January 29, 2019.² Currently, the preliminary determinations of these LTFV investigations are due no later than May 6, 2019.

¹ See Polyester Textured Yarn from India and the People's Republic of China: Initiation of Less-Than-Fair-Value Investigations, 83 FR 58223 (November 19, 2018) (Initiation Notice).

² See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in these LTFV investigations affected by the partial federal government closure have been extended by 40 days. If the new deadline falls on a non-business day, in accordance with Commerce's practice, the deadline will become the next business day.

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating and determines that (i) the investigation is extraordinarily complicated, and that (ii) additional time is necessary to make a preliminary determination. Under 19 CFR 351.205(e), the petitioner must submit a request for postponement 25 days or more before the scheduled date of the preliminary determination and must state the reasons for the request. Commerce will grant the request unless it finds compelling reasons to deny the request.

On March 29, 2019, the petitioners ³ submitted a timely request that Commerce postpone the preliminary determinations in these LTFV investigations.⁴ The petitioners stated that they requested postponement to allow Commerce time to gather all data and questionnaire responses and to allow Commerce and interested parties time to fully and properly analyze all record evidence.⁵

³ The petitioners are Unifi Manufacturing, Inc. and Nan Ya Plastics Corporation, America.

⁴ See the Petitioners' Letter, “Polyester Textured Yarn from China and India—Petitioners' Request to Extend the Preliminary Antidumping Duty Determinations,” dated March 29, 2019.

⁵ Id.

In accordance with 19 CFR 351.205(e), the petitioners have stated the reasons for requesting a postponement of the preliminary determinations, and Commerce finds no compelling reason to deny the request. Therefore, Commerce is postponing the deadline for the preliminary determinations by 50 days (i.e., 190 days after the date on which these investigations were initiated, plus the 40 tolling days), in accordance with section 733(c)(1)(A) of the Act. As a result, Commerce will issue its preliminary determinations no later than June 25, 2019. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: April 16, 2019.
Jeffrey I. Kessler,
Assistant Secretary for Enforcement and Compliance.

[FR Doc. 2019-08133 Filed 4-22-19; 8:45 am]

BILLING CODE 3510-DS-P